NATIONAL AERONAUTICS AND SPACE ADMINISTRATION

[Notice (07-015)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: February 22, 2007.

FOR FURTHER INFORMATION CONTACT: Linda B. Blackburn, Patent Counsel, Langley Research Center, Mail Code 141, Hampton, VA 23681-2199; telephone (757) 864-9260; fax (757) 864-9190.

NASA Case No. LAR-17165-1: Resin Infusion of Layered Metal/Composite Hybrid and Resulting Metal/Composite Hybrid Laminate;

NASA Case No. LAR-17235-1: Interferometric Rayleigh Scattering Measurement System;

NASA Case No. LAR-17168-1: Cylindrical Piezoelectric Fiber Composite Actuator Assemblies;

NASA Case No. LAR-17346-1: Flexible Thin Metal Film Thermal Sensing System;

NASA Case No. LAR-17307-1: Open Loop Heat Pipe Radiator Having a Free-Piston for Wiping Condensed Working Fluid;

NASA Case No. LAR-17082-1: Composite Material Having a Thermally-Reactive-Endcapped Imide Oligomer and Carbon Nanofillers;

NASA Case No. LAR-16950-1: Ferroelectric Light Control Device;

NASA Case No. LAR-17257-1: Systems and Methods for Detecting a Failure Event in a Field Programmable Gate Array;

NASA Case No. LAR-16858-1: Photogrammetric System and Method Used in the Characterization of a Structure;

NASA Case No. LAR-17268-1: Reprogrammable Field Programmable Gate Array With Integrated System for Mitigating Effects of Single Event Upsets;

NASA Case No. LAR-16886-1: Method and System for Sensing and Identifying Foreign Particles in a Gaseous Environment;

NASA Case No. LAR-16083-1: Physiological Using Interface for a Multi-User Virtual Environment;

NASA Case No. LAR-16409-1: Wet Active Chevron Nozzle for Controllable Jet Noise Reduction.

Dated: February 7, 2007.
Keith T. Sefton,
Deputy General Counsel, Administration and Management.

[FR Doc. E7-2907 Filed 2-21-07; 8:45 am]

BILLING CODE 7510-13-P